DEPARTMENT OF DEFENSE

Office of the Secretary

[Transmittal Nos. 15-18]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 15-18 with attached transmittal, policy justification, and Sensitivity of Technology.

Dated: May 8, 2015.
Aaron Siegel,
Alternate OSD Federal Register Liaison Officer, Department of Defense.

Transmittal No. 15-18

Notice of Proposed Issuance of Letter of Offer Pursuant to Section 36(b)(1) of the Arms Export Control Act, as amended

(i) Prospective Purchaser: Jordan

(ii) Total Estimated Value:

Major Defense Equipment | $19 million
Other | $ 2 million
Total | $21 million

(iii) Description and Quantity or Quantities of Articles or Services under Consideration for Purchase: one (1) UH-60M Black Hawk Helicopter, with two (2) T700-GE-701D Engines, spare and repair parts, publications and technical data, support equipment, communication equipment, personnel training and training equipment, U.S. Government and contractor engineering, logistics, and technical support services, aircraft survivability equipment, aviation mission planning system, tools and test equipment, and other related elements of logistical and program support.

(iv) Military Department: Army (VAT)

(v) Prior Related Cases, if any: FMS case WAT-$26M-5Oct05

(vi) Sales Commission, Fee, etc., Paid, Offered, or Agreed to be Paid: None.

(vii) Sensitivity of Technology Contained in the Defense Article or Defense Services Proposed to be Sold: See Annex attached

(viii) Date Report Delivered to Congress: 04 May 2015

* as defined in Section 47(6) of the Arms Export Control Act.

POLICY JUSTIFICATION

Jordan—UH-60M VIP Blackhawk Helicopter)

The Government of Jordan has requested a possible sale of one (1) UH-60M Black Hawk Helicopter, with two (2) T700-GE-701D Engines, spare and repair parts, publications and technical data, support equipment, communication equipment, personnel training and training equipment, U.S. Government and contractor engineering, logistics, and technical support services, aircraft survivability equipment, aviation mission planning system, tools and test equipment, and other related elements of logistical and program support. The estimated cost is $21 million.

The proposed sale will contribute to the foreign policy and national security of the United States by helping to improve the security of a friendly country which has been, and continues to be, an important force for political stability and economic progress in the Middle East.

The proposed sale of one Black Hawk helicopter to Jordan will provide intra-country transportation for the Royal family, Jordanian officials, visiting Heads of State, and other dignataries. Jordan, which already has Black Hawk helicopters in its inventory, will have no difficulty absorbing this additional helicopter.

The proposed sale of this equipment and support will not alter the basic military balance in the region.

The principal contractors will be Sikorsky Aircraft in Stratford, Connecticut; and General Electric Company in Cincinnati, Ohio. There are no known offset agreements proposed in connection with this potential sale.

Implementation of this proposed sale will not require the assignment of additional U.S. Government or contractor representatives to Jordan.

There will be no adverse impact on U.S. defense readiness as a result of this proposed sale.

Transmittal No. 15-18

Notice of Proposed Issuance of Letter Of Offer Pursuant to Section 36(b)(1) of the Arms Export Control Act

Annex

Item No. vii

(ix) Sensitivity of Technology:

1. The UH-60M Black Hawk Utility Helicopter contains communications and identification equipment, navigation equipment, aircraft survivability equipment, displays, and sensors. The airframe itself does not contain sensitive technology. The highest level of classified information required to be released for training, operation and maintenance of the Black Hawk is Unclassified. The highest level which could be revealed through reverse engineering or testing of the end item is Secret.

2. The AN/APR-39, Radar Signal Detecting Set provides warning of a radar directed air defense threat to allow appropriate countermeasures. This is the 1553 data bus compatible configuration. Hardware is classified Confidential when programmed with U.S. threat data; releasable technical manuals for operation and maintenance are classified Confidential; releasable technical data and performance is classified Secret.

3. The AN/AVR-2B, Laser Warning Set is a passive laser warning system that receives, processes, and displays threat information resulting from aircraft illumination by lasers, on the multi-functional display. The hardware is classified Confidential; releasable technical manuals for operation and maintenance are classified Secret. Reverse engineering is not a major concern.

4. The AN-ARC-231 is an airborne Very High Frequency/Ultra High Frequency (VHF/UHF) Line of Sight and DAMA SATCOM communication system. The ARC-231 provides airborne, multi-band, multi-mission, secure anti-jam voice, data and imagery network capable communications in a compact radio set.

5. The AN-ARC-201D Single Channel Ground and Airborne Radio System (SINCGARS) is a tactical airborne radio subsystem that provides secure, anti-jam voice and data communication. The Enhanced Data Modes (EDM) of the radio employs a Reed-Solomon Forward Error Correction (FEC) technique that provides enhanced bit-error-rate performance. The EDM Packet Data Mode supports packet data transfer from the airborne host computer to another airborne platform or the ground-based equivalent SINCGARS system. Performance capabilities, ECM/ECCM specifications and Engineering Change Orders (ECOs) are classified Secret.

6. The AAR-57(V) Common Missile Warning System detects threat missiles in flight, evaluates potential false alarms, declares validity of threat and selects appropriate IRCM. Includes Electro-Optical Missile Sensors, Electronic Control Unit, Sequencer and Improved Countermeasures Dispenser. The hardware is classified Confidential; releasable technical manuals for operation and maintenance are classified Secret. Reverse engineering is not a major concern.

7. If a technologically advanced adversary were to obtain knowledge of the specific hardware and software elements, the information could be used to develop countermeasures which might reduce weapon system effectiveness or be used in the development of a system with similar or advanced capabilities.

8. A determination has been made that the recipient country can provide substantially the same degree of protection for the sensitive technology being released as the U.S. Government. This sale is necessary in furtherance of the U.S. foreign policy and national security objectives outlined in the Policy Justification.

9. All defense articles and services listed in this transmittal have been authorized for release and export to Jordan.

[FR Doc. 2015-11600 Filed 5-13-15; 8:45 am]

BILLING CODE 5001-06-P